FEDERAL MINE SAFETY AND HEALTH REVIEW COMMISSION

Sunshine Act Meeting Notice

Time and Date: 10 a.m., Thursday, July 24, 2003.

Place: Hearing Room, 9th Floor, 601 New Jersey Avenue, NW., Washington, DC.

Status: Open.

Matters to be Considered: The Commission will consider and act upon the following in open session: Secretary of Labor v. Western Industrial Insulating, Inc., Docket No. WEST 2001-473-RM. (Issues include whether substantial evidence supports the judge's determination that the operator failed to provide safe access to work scaffolding in violation of 30 CFR 56.11001; and whether the judge properly found that the violation was significant and substantial.

Any person attending this meeting who requires special accessibility features and/or auxiliary aids, such as sign language interpreters, must inform the Commission in advance of those needs. Subject to 29 CFR 2706.150(a)(3) and 2706.160(d).

Contact Person for More Info: Jean Ellen, (202) 434-9950, (202) 708-9300 for TDD Relay, 1-800-877-8339 for toll free.

Jean H. Ellen,
Chief Docket Clerk.

[FR Doc. 03-18112 Filed 7-14-03; 1:20 pm]

BILLING CODE 6735-01-M